DEPARTMENT OF THE INTERIOR

National Park Service

[NPS-WASO-NAGPRA-NPS0031329; PPWOCRADN0-PCU00RP14.R50000]

Notice of Inventory Completion: Mississippi Department of Archives and History, Jackson, MS; Correction

AGENCY: National Park Service, Interior.

ACTION: Notice.

SUMMARY: The Mississippi Department of Archives and History (MDAH) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Mississippi Department of Archives and History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Mississippi Department of Archives and History at the address in this notice by February 22, 2021.

ADDRESSES: Meg Cook, Director of Archaeology Collections, Mississippi Department of Archives and History, Museum Division, 222 North Street, P.O. Box 571, Jackson, MS 39205, telephone (601) 576-6927, email mcook@mdah.ms.gov.

SUPPLEMENTARY INFORMATION: Notice is here given in accordance with the Native American Graves Protection and Repatriation Act (NAGPRA), 25 U.S.C. 3003, of the completion of an inventory of human remains and associated funerary objects under the control of the Mississippi Department of Archives and History, Jackson, MS. The human remains and associated funerary objects were removed from the region of Mississippi north of the Yazoo and Yalobusha Rivers including DeSoto, Clay, Lafayette, Monroe, Panola, Pontotoc, Quitman, Tate, Tunica, Union, and Webster counties.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals previously reported in a Notice of Inventory Completion published in the Federal Register on April 13, 2018 (83 FR 16121-16123, April 13, 2018); additional human remains were discovered after publication and 207 individuals are hereby corrected to 403 individuals. This notice corrects the number of funerary objects reported in the prior notice from 50 associated funerary objects to 83 lots of funerary objects. Additional information received during ongoing consultations successfully affiliated all listed individuals previously identified as culturally unidentifiable. The notice published in 2018 included the following counties: Clay, DeSoto, Panola, and Tunica; this notice contains additional counties not previously reported including: Lafayette, Monroe, Pontotoc, Quitman, Tate, Union, and Webster. Transfer of control of the items in this correction notice has not occurred.

Consultation

A detailed assessment of human remains was made by the Mississippi Department of Archives and History professional staff in consultation with representatives of the Alabama-Coushatta Tribe of Texas (previously listed as Alabama-Coushatta Tribes of Texas); Alabama-Quassarte Tribal Town; Coushatta Tribe of Louisiana; Eastern Band of Cherokee Indians; Miami Tribe of Oklahoma; Mississippi Band of Choctaw Indians; Quapaw Nation (previously listed as The Quapaw Tribe of Indians); The Chickasaw Nation; The Choctaw Nation of Oklahoma; The Muscogee (Creek) Nation; and The Osage Nation (previously listed as Osage Tribe) (hereafter referred to as “The Tribes”).

History and Description of the Remains

Prior to 1965, human remains representing, at minimum, two individuals were removed from an unspecified location in Northeast Mississippi. The individuals came into MDAH's possession in 1964 by way of donation from R. DeMar Whitfield. No known individuals were identified. The one associated funerary object is one lot of ceramic sherds.

MDAH has determined that these human remains are Native American through circumstances of acquisition and observation of biological markers consistent with this ancestry. Circumstances of acquisition show that these human remains are affiliated with the pre-contact Woodland cultures that are indigenous to this region of Mississippi. Present day Indian Tribes associated with pre-contact Woodland cultures include, but are not limited to, The Tribes.

Up to 1991, human remains and associated funerary objects were removed from the following counties in Mississippi: Clay, Desoto, Lafayette, Monroe, Panola, Pontotoc, Quitman, Tate, Tunica, Union, and Webster. The following information regarding these individuals is organized by county.

In June 1990, human remains representing, at minimum, two individuals were removed from the Brogan Village (22CL501b) site in Clay County, MS. No known individuals were identified. The three associated funerary objects are one lot of ceramic sherds, one lot of lithics, and one lot of soil matrix.

Beginning in 1962, human remains representing, at minimum, 76 individuals were removed from the following sites in DeSoto County, MS: Cheatham (22DS514), Dogwood Ridge (22DS511), Edgefield Mounds (22DS509), Harris (22DS504), Irby (22DS516), Lake Cormorant (22DS501), McKay's Store (22DS506), Migva (22DS526), Shannon #2 (22DS519), Walls (22DS500), Walls/Harris (22DS500/504), Woodlyn (22DS517) sites, and an unknown site. No known individuals were identified. The three associated funerary objects, removed from the Edgefield Mounds site, are one lot of ceramic sherds, one lot of ceramic vessels, and one lot of soil matrix.

At an unknown time prior to 1965, human remains representing, at minimum, one individual were removed from an unknown location in Lafayette County, MS. No known individual was identified. No associated funerary objects are present.

At an undetermined time, human remains representing, at minimum, two individuals were removed from the Turner (22MO923) site in Monroe County, MS. No known individuals were identified. No associated funerary objects are present.

In the late 1960s, human remains representing, at minimum, 11 individuals were removed from McCarter Mounds (22PA502) and Dugger Bluff (22PA587) sites in Panola County, MS. No known individuals were identified. The eight associated funerary objects are: One lot of ceramic sherds, one lot of charcoal, one lot of copper pan pipes, one lot of faunal bone remains, one lot of lithics, two lots of soil matrix, and one lot of shell fragments.

At an undetermined date before 1962, human remains representing, at minimum, one individual were removed from an unknown location in Pontotoc County, MS. No known individual was identified. No associated funerary objects are present.

Beginning in the 1960s, human remains representing, at minimum, 87 individuals were removed from Shady Grove (22QU525) and Tom Harris Mounds (22QU574) sites in Quitman County, MS. No known individuals were identified. The 12 associated funerary objects include: One lot of bone awls, one lot of botanical remains, one lot of ceramic sherds, one lot of ceramic vessels, one lot charcoal, one lot faunal bone remains, one lot of pit fill, one lot of limonite, one lot of lithics, one lot of shell, one lot of soil matrix, and one lot of vessel contents.

At an undetermined time, human remains representing, at minimum, one individual were removed from an unknown location in Tate County, MS. No known individual was identified. No associated funerary objects are present.

Beginning in 1966, human remains representing, at minimum, 216 individuals were removed from the following sites in Tunica County: Austin (22TU549), Bonds Village (22TU530), Boyd (22TU531), Dundee Mounds (22TU501), Evansville (22TU502), Flowers #3 (22TU518), Hollywood Mounds (22TU500), Jepson (22TU522), Mhoon Landing (22TU514), and Norflett Mound (22TU519). No known individuals were identified. The 56 associated funerary objects are: One lot of bird talons, two lots of bone awl, one lot of bone needles, two lots of botanical material, one lot of celts, two lots of ceramic vessels, six lots of ceramic sherds, three lots of charcoal, one lot of clay beads, one lot of coprolites, two lot of daub, one lot ear plugs, five lots of faunal bone fragments, one lot flotation samples, one lot fired clay, one lot of hammerstones, one lot of historic glass, two lots of historic metal, four lots of lithics, one lot of lithic bifaces, two lots of modified faunal bone, one lot of otoliths, two lots of projectile points, two lots of shell, one lot of shell beads, one lot of shell gorgets, three lots of soil matrix, two lots of unmodified stone, two lots of water-screened pit fill, and one lot of wolf teeth.

In 1964, human remains representing, at minimum, three individuals were removed from the Ingomar Mounds (22UN500) site in Union County, MS. No known individuals were identified. No associated funerary objects are present.

In the 1930s, human remains representing, at minimum, one individual were removed from the G.H. Holland Mound (22WE502) site in Webster County, MS. No known individual was identified. No associated funerary objects are present.

The Mississippi Department of Archives and History has determined that the human remains of each of these individuals are Native American through the circumstances of acquisition, as well as through the observance of biological markers consistent with this ancestry. The circumstances of acquisition, including excavation notes and associated funerary objects, show that these human remains are affiliated with the multiple cultures that are indigenous to these areas of Mississippi. Individuals and associated funerary objects from the Archaic cultural period are represented in sites from DeSoto, Monroe, Panola, Tunica, and Quitman Counties. Individuals and associated funerary objects from the Woodland cultural period are represented in sites from Clay, Lafayette, Panola, Quitman, Tunica, and Webster Counties. Individuals and associated funerary objects from the Mississippian cultural period are represented in sites from DeSoto, Quitman, Tunica, and Union Counties. The unknown Pontotoc and Tate County sites are not associated with a specified period of occupation, but have been determined to be Native American in ancestry.

Present day Indian Tribes associated with these cultures include, but are not limited to The Tribes.

Determinations Made by the Mississippi Department of Archives and History

Officials of the Mississippi Department of Archives and History have determined that:

• Pursuant to 25 U.S.C. 3001(9), the human remains described in this notice represent the physical remains of 403 individuals of Native American ancestry.

• Pursuant to 25 U.S.C. 3001(3)(A), the 83 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Meg Cook, Director of Archaeology Collections, Mississippi Department of Archives and History, Museum Division, 222 North Street, P.O. Box 571, Jackson, MS 39205, telephone (601) 576-6927, email mcook@mdah.ms.gov, by February 22, 2021. After that date, if no additional requestors have come forward, transfer of control of the human remains and associated funerary objects to The Tribes may proceed.

The Mississippi Department of Archives and History is responsible for notifying The Tribes that this notice has been published.

Dated: January 5, 2021.
Melanie O'Brien,
Manager, National NAGPRA Program.

[FR Doc. 2021-01340 Filed 1-21-21; 8:45 am]

BILLING CODE 4312-52-P